FEDERAL COMMUNICATIONS COMMISSION

47 CFR Part 73

[DA No. 00-777; MM Docket No. 99-344; RM-9709]

Radio Broadcasting Services; Lampasas and Leander, TX

AGENCY: Federal Communications Commission.

ACTION: Final rule.

SUMMARY: This document reallots Channel 255C1 from Lampasas, Texas, to Leander, Texas, and modifies the license for Station KJFK to specify operation on Channel 255C1 at Leander in response to a petition filed by Shamrock Communications, Inc. See 64 FR 71098, December 20, 1999. The coordinates for Channel 255C1 at Leander are 30-43-34 and 97-59-23. With this action, this proceeding is terminated.

EFFECTIVE DATE: May 22, 2000.

FOR FURTHER INFORMATION CONTACT: Kathleen Scheuerle, Mass Media Bureau, (202) 418-2180.

SUPPLEMENTARY INFORMATION: This is a summary of the Commission's Report and Order, MM Docket No. 99-344, adopted March 29, 2000, and released April 7, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Texas, is amended by removing Lampasas, Channel 255C1, and adding Leander, Channel 255C1.

Federal Communications Commission.
John A. Karousos,
Chief, Allocations Branch, Policy and Rules Division, Mass Media Bureau.

[FR Doc. 00-9776 Filed 4-18-00; 8:45 am]

BILLING CODE 6712-01-P